DEPARTMENT OF TRANSPORTATION

Federal Aviation Administration

14 CFR Parts 91, 93, 121 and 135

[Docket No. FAA-1999-5926; Amendment Nos. 91-263, 93-80, 121-274 and 135-75]

RIN 2120-AG74

Modification of the Dimensions of the Grand Canyon National Park Special Flight Rules Area and Flight Free Zones; Correction

AGENCY: Federal Aviation Administration (FAA), DOT.

ACTION: Final rule; correction.

SUMMARY: This document contains a correction to the final rule, published in the Federal Register on April 4, 2000 (65 FR 17736). That final rule amends special operating rules and airspace for those persons operating aircraft in the area designated as the Grand Canyon National Park Special Flight Rules Area (SFRA). That rule assists the National Park Service in fulfilling the statutory mandate of substantial restoration of the natural quiet and experience of the park.

DATES: This correction is effective December 1, 2000.

FOR FURTHER INFORMATION CONTACT: Kevin C. Willis, (202) 267-8741.

Correction of Publication

In final rule FR Doc. 00-7950, beginning on page 17736 in the Federal Register issue of April 4, 2000, make the following correction:

1. On page 17736, in column 1, in the heading section, beginning on line 4, correct “Amendment No. 93-80” to read “Amendment Nos. 91-263, 93-80, 121-274 and 135-75”.

Issued in Washington, DC on May 15, 2000.
Donald P. Byrne,
Assistant Chief Counsel, Regulations Division.

[FR Doc. 00-12819 Filed 5-24-00; 8:45 am]

BILLING CODE 4910-13-M